DEPARTMENT OF THE INTERIOR

National Park Service

[N6507; NPS-WASO-NAGPRA-NPS0041052; PPWOCRADN0-PCU00RP14.R50000]

Notice of Intended Repatriation: Denver Art Museum, Denver, CO

AGENCY: National Park Service, Interior.

ACTION: Notice.

SUMMARY: In accordance with the Native American Graves Protection and Repatriation Act (NAGPRA), the Denver Art Museum intends to repatriate certain cultural items that meet the definition of objects of cultural patrimony and that have a cultural affiliation with the Indian Tribes or Native Hawaiian organizations in this notice.

DATES: Repatriation of the cultural items in this notice may occur on or after October 14, 2025.

ADDRESSES: Send additional, written requests for repatriation of the cultural items in this notice to Jennifer (Jennie) Trujillo, Denver Art Museum, 100 W 14th Avenue Parkway, Denver, CO 80204, email jtrujillo@denverartmuseum.org.

SUPPLEMENTARY INFORMATION: This notice is published as part of the National Park Service's administrative responsibilities under NAGPRA. The determinations in this notice are the sole responsibility of the Denver Art Museum, and additional information on the determinations in this notice, including the results of consultation, can be found in the summary or related records. The National Park Service is not responsible for the determinations in this notice.

Abstract of Information Available

A total of four cultural items have been requested for repatriation. The four objects of cultural patrimony are two medicine bundles with multiple objects inside, and two Tomahawk Lodge sticks. The first medicine bundle was ostensibly in the collection of Charlie Lefthand, and was then purchased by Erich Kohlberg, a dealer of Native American art and other objects, of Denver, Colorado at an unknown date. It is unconfirmed if Lefthand was from the Northern or Southern Arapaho, however, the Southern Arapaho were consulted on this object and offered their support of the Northern Arapaho claim. The Denver Art Museum then purchased the bundle from Kohlberg's Antiques in Denver in 1939. The parfleche bundle contains six smaller objects—five small hide bags with unknown contents and one animal tail. The second medicine bundle was purchased by MJ Kohlberg from Arapaho Chief Sharp Nose at an unknown date. The Denver Art Museum then purchased the object from Kohlberg's Antiques in Denver in 1941. The rawhide pouch contains 14 smaller objects such as a braid of sweet grass, a dried bulb, multiple hide medicine bags with unknown contents, and a bundle of five leather ties. The Denver Art Museum's analysis of the records of transactions, paired with traditional knowledge shared by the Tribe, showed that the knowledge and use of these medicines could not be freely obtained or created, but instead were passed down through specific individuals within the community, therefore each of the above bundles should not have been sold or alienated as they are communally owned cultural items.

The two Tomahawk Lodge sticks, both made of wood and decorated with quill and feathers, were obtained by Charles Burkhart from the Convent of the Sisters of the Holy Child in Cheyenne, Wyoming. This convent was established in 1884 and the sticks were apparently acquired by the convent in that year and remained in the convent's collection until 1933, when they were put on the market. Charles Burkhart “Eagle Plume” was a trading post salesman who worked at, and later owned, the Perkins Trading Post in Allenspark, Colorado. Burkhart bought the sticks in 1933 on behalf of Perkins Trading Post, from whom the Denver Art Museum purchased the sticks in 1941. Society organizations hold communal title to these items, therefore they were considered inalienable at the time the objects were separated from the group.

Determinations

The Denver Art Museum has determined that:

• The four objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Northern Arapaho Tribe of the Wind River Reservation, Wyoming.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 14, 2025. If competing requests for repatriation are received, the Denver Art Museum must determine the most appropriate requestor prior to repatriation. Requests for joint repatriation of the cultural items are considered a single request and not competing requests. The Denver Art Museum is responsible for sending a copy of this notice to the Indian Tribes and Native Hawaiian organizations identified in this notice and to any other consulting parties.

(Authority: Native American Graves Protection and Repatriation Act, 25 U.S.C. 3004 and the implementing regulations, 43 CFR 10.9.)

Dated: August 29, 2025.
Melanie O'Brien,
Manager, National NAGPRA Program.

[FR Doc. 2025-17618 Filed 9-11-25; 8:45 am]

BILLING CODE 4312-52-P